DEPARTMENT OF COMMERCE

National Oceanic and Atmospheric Administration

[I.D. 032000B]

Submission for OMB Review; Comment Request

The Department of Commerce (DoC) has submitted to the Office of Management and Budget (OMB) for clearance the following proposal for collection of information under the provisions of the Paperwork Reduction Act (44 U.S.C. Chapter 35).

Agency: National Oceanic and Atmospheric Administration (NOAA).

Title: Northwest Region Federal Fisheries Permits.

Agency Form Number(s): None.

OMB Approval Number: 0648-0203.

Type of Request: Revision of a currently approved collection.

Burden Hours: 605.

Number of Respondents: 796.

Average Hours Per Response: Ranges between 20 minutes and 1 hour depending on the requirement.

Needs and Uses: This submission supports a request for renewal of the Northwest region Federal Fisheries Permits. Under the Fishery Management Plan, there are three (3) types of permits issued for the groundfish fishery off the states of Washington, Oregon, and California. These include the experimental fishing permits; limited entry permits; and at sea-processors. In addition, there is a permit requirement for mothership processing vessels over 125 feet. The information requested in the permit application form is used by several offices of the National Marine Fisheries Service (NMFS), and the U.S. Coast Guard and state fishery enforcement agencies under contract to NMFS. This information may be used in developing management measures and to control fishing effort.

Frequency: On occasion.

Respondent's Obligation: Mandatory.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at LEngelme@doc.gov).

Written comments and recommendations for the proposed information collection should be sent within 30 days of publication of this notice to David Rostker, OMB Desk Officer, Room 10202, New Executive Office Building, 725 17th Street, NW, Washington, DC 20503.

Dated: March 16, 2000.
Linda Engelmeier,
Department Forms Clearance Officer, Office of the Chief Information Officer.

[FR Doc. 00-7216 Filed 3-22-00; 8:45 am]

BILLING CODE 3510-22-F